DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Survey of Local Government Finance (School Systems).

Form Number(s): F-33, F-33-1, F-33-L1, F-33-L2, F-33-L3.

Agency Approval Number: 0607-0700.

Type of Request: Revision of a currently approved collection.

Burden: 4,038 hours.

Number of Respondents: 4,180.

Avg Hours Per Response: One hour.

Needs and Uses: The U.S. Census Bureau requests continued Office of Management and Budget clearance of the data collection for the Annual Survey of Local Government Finances (School Systems). Recently, as exemplified by the reauthorization of the Elementary Secondary Education Act (ESEA) by the No Child Left Behind Act (NCLB), there has been an increased interest in improving the Nation's public schools. One result of this intensified interest has been a significant increase in the demand for school finance data. Some areas in which data users have shown an increased interest are embodied in the central points of the No Child Left Behind Act. Included among these points are: the requirement that each state develop a statewide accountability system to ensure that every child meets the highest possible standards; Federal grants to implement programs to improve children's reading achievement through the Reading First initiative; public school choice provisions to allow children in low performing schools to transfer to a better public school; new opportunities and assistance for professional development for current educators and administrators; Federal assistance for classroom technology investment to ensure every student will become technologically-literate; and budget increases for the Title I program that provides funds to America's most needy public schools.

There has also been heightened awareness of the inequalities in funding public education, as evidenced by the increasing number of court cases which challenge the equity of many state formulas that disperse monies to public school systems. Increased interest at the Federal Government level for addressing fiscal disparities has been shown by proposals currently before the Congress that would greatly change how Federal funds are dispersed.

The Census Bureau's school finance data set for local education agencies is the only nationwide source for public school system finance data. We collect education finance data as part of our Annual Survey of State and Local Government Finances. This survey is the only comprehensive source of public fiscal data collected on a nationwide scale using uniform definitions, concepts and procedures.

We are requesting minor modifications to one of the forms used in this collection.

Affected Public: State, local, or Tribal government.

Frequency: Annually.

Respondent's Obligation: Voluntary.

Legal Authority: Title 13 U.S.C., Sections 161 and 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: May 1, 2003.
Madeleine Clayton,
Management Analyst, Office of the Chief Information Officer.

[FR Doc. 03-11239 Filed 5-6-03; 8:45 am]

BILLING CODE 3510-07-P